INTERNATIONAL BOUNDARY AND WATER COMMISSION, UNITED STATES AND MEXICO

United States Section; Notice of Availability of a Final Environmental Assessment and Finding of No Significant Impact for Improvements to the Donna-Brownsville Levee System, in the Lower Rio Grande Flood Control Project, Hidalgo and Cameron Counties, TX

AGENCY: United States Section, International Boundary and Water Commission, United States and Mexico.

ACTION: Notice of Availability of Final Environmental Assessment (EA) and Finding of No Significant Impact (FONSI).

SUMMARY: Pursuant to Section 102(2)(c) of the National Environmental Policy Act (NEPA) of 1969, the Council on Environmental Quality Final Regulations (40 CFR parts 1500 through 1508), and the United States Section, International Boundary and Water Commission's (USIBWC) Operational Procedures for Implementing Section 102 of NEPA, published in the Federal Register September 2, 1981, (46 FR 44083); the USIBWC hereby gives notice of availability of the Final EA and FONSI for Improvements to the Donna-Brownsville Levee System, in the Lower Rio Grande Flood Control Project, located in Hidalgo and Cameron Counties, Texas. The Final EA addresses comments and recommendations provided by the U.S. Fish and Wildlife Service (USFWS), Natural Resources Conservation Service, Texas Historical Commission, and Texas Commission on Environmental Quality, during the Draft EA review period ending July 31, 2007.

FOR FURTHER INFORMATION CONTACT: Daniel Borunda, Environmental Protection Specialist, Environmental Management Division, United States Section, International Boundary and Water Commission; 4171 N. Mesa, C-100; El Paso, Texas 79902. Telephone: (915) 832-4767; e-mail: danielborunda@ibwc.state.gov. Copies of the document have been provided to potentially affected parties, as identified during the Draft EA review process. Single hard copies of the Final EA may be obtained by request at the above address. Electronic copies may also be obtained from the USIBWC Home Page at http://www.ibwc.state.gov.

DATES: The Final EA and Final FONSI will be available September 14, 2007.

SUPPLEMENTARY INFORMATION: The USIBWC is authorized to construct, operate, and maintain any project or works by the United States of America on the Lower Rio Grande Flood Control Project (LRGFCP), as authorized by the Act of the 74th Congress, Sess. I Ch. 561 (H.R. 6453), approved August 19, 1935 (49 Stat. 660), and codified at 22 U.S.C. 277, 277a, 277b, 277c, and Acts amendatory thereof and supplementary thereto. The LRGFCP was constructed to protect urban, suburban, and highly developed irrigated farmland along the Rio Grande delta in the United States and Mexico.

The USIBWC, in cooperation with the USFWS, prepared this Final EA for the proposed action of raising the Donna-Brownsville Levee System located in Hidalgo and Cameron Counties, Texas to improve flood control. This levee system is part of the LRGFCP that extends approximately 180 miles from the Town of Peñitas in south Texas to the Gulf of Mexico. The Donna-Brownsville Levee extends 65 miles along the Rio Grande, downstream from the Donna Pump Station in Hidalgo County to an area east of Brownsville, approximately 28 miles upstream of the Gulf of Mexico, in Cameron County.

The Proposed Action would increase the flood containment capacity of the Donna-Brownsville Levee System by raising elevation of a number of levee segments to meet a 3-foot freeboard design criterion for flood protection. Height increases up to 2 feet are typically needed to reach the design freeboard value. The increase in levee height will result in an expansion to the levee footprint by lateral extension of the structure. Structural improvements may be required for some levee segments where seepage is a potential problem.

Dated: September 10, 2007.
Susan Daniel,
General Counsel.

[FR Doc. E7-18140 Filed 9-13-07; 8:45 am]

BILLING CODE 7010-01-P